ENVIRONMENTAL PROTECTION AGENCY

[EPA-HQ-OPPT-2019-0075; FRL-9992-84]

Certain New Chemicals; Receipt and Status Information for October 2019

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 10/01/2019 to 10/31/2019.

DATES: Comments identified by the specific case number provided in this document must be received on or before March 23, 2020.

ADDRESSES: Submit your comments, identified by docket identification (ID) number EPA-HQ-OPPT-2019-0075, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 10/01/2019 to 10/31/2019. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g. P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved * From 10/01/2019 to 10/31/2019
Case No. | Version | Received date | Manufacturer | Use | Chemical substance
J-20-0001 | 2 | 10/22/2019 | CBI | (G) Ethanol production | (G) Biofuel producing Saccharomyces cerevisiae modified, genetically stable.
P-17-0299A | 4 | 10/15/2019 | CBI | (G) Paint additive | (G) 2-Propenoic acid, alkyl-, polymers with alkyl acrylate and polyethylene glycol methacrylate alkyl ether.
P-17-0360A | 2 | 10/28/2019 | Sasol Chemicals (USA), LLC | (G) Surfactant for oil and gas recovery | (S) 2-propanol, 1-amino, compd. with a-sulfo-w-(decyloxy)poly(oxy-1,2-ethanediyl) (1:1);(S) 2-propanol, 1-amino, compd. with a-sulfo-w-(octyloxy)poly(oxy-1,2-ethanediyl) (1:1);.
P-17-0362A | 2 | 10/4/2019 | CBI | (G) Industrial flame retardant | (G) Aliphatic phosphoric amide ester.
P-18-0019A | 2 | 10/28/2019 | Cabot Corporation | (S) Dispersive pigment | (G) Substituted Benzene, 4-[2-[2-hydroxy-3-[[(3-nitrophenyl)amino]carbonyl]-1-naphthalenyl]diazenyl]-, sodium salt (1:1).
P-18-0034A | 2 | 9/30/2019 | CBI | (S) Polyetheramine carboxylate salt used as a dispersing agent for pigments in industrial paints and coatings | (G) Polyetheramine carboxylate salt.
P-18-0093A | 3 | 10/15/2019 | CBI | (G) Additive to plastics | (G) Pentacyclo[9.5.1.13,9.15,15.17,13]octasiloxane, 1,3,5,7,9,11,13,15-octakis (polyfluoroalkyl)-.
P-18-0094A | 3 | 10/15/2019 | CBI | (G) Additive to plastics | (G) Pentacyclo[9.5.1.13,9.15,15.17,13]octasiloxanealkylsubstituted, 3,5,7,9,11,13,15-heptakis(polyfluoroalkyl)-.
P-18-0095A | 3 | 10/15/2019 | CBI | (G) Additive to plastics | (G) Pentacyclo[9.5.1.13,9.15,15.17,13]octasiloxanealkanol, 3,5,7,9,11,13,15-heptakis(polyfluoroalkyl)-, acetate.
P-18-0135A | 4 | 10/3/2019 | CBI | (G) Ingredient for household products | (S) 1,2-Decanediol.
P-18-0143A | 6 | 10/1/2019 | Huntsman International, LLC | (G) Anti-corrosive primer for outdoor industrial applications | (G) Fatty acids, tall-oil polymers with aminoalkyl, dialkyl alkane diamine, polyalkylene polyamine alkanepolyamine fraction, and tris-[(alkylamino) alkyl] phenol.
P-18-0151A | 6 | 10/23/2019 | Struers, Inc | (S) A curing agent for curing epoxy systems | (S) Formaldehyde, reaction products with 1,3-benzenedimethanamine and p-tert-butylphenol.
P-18-0175A | 8 | 10/10/2019 | Hexion, Inc | (S) Food can coating, and Non-food contact can coating | (S) Formaldehyde, polymer with 4-(1,1-dimethylethyl)phenol and phenol, Bu ether.
P-18-0177A | 3 | 10/17/2019 | Clariant Plastics & Coatings, LLC | (S) Lubricant and surface protection agent | (S) Waxes and Waxy substances, rice bran, oxidized.
P-18-0256A | 4 | 10/1/2019 | CBI | (G) Chemical Intermediate | (S) Undecanol, branched.
P-18-0299A | 3 | 10/1/2019 | CBI | (G) Ink additive | (G) Alkenoic acid, alkyl-, polymers with alkyl methacrylate, cycloalkyl methacrylate, alkylene dimethacrylate, and polyalkene glycol hydrogen sulfate [(branched alkyloxy)alkyl]-(alkenyloxy)alkyl ethers ammonium salts, metal salts.
P-18-0302A | 4 | 9/27/2019 | CBI | (G) Chemical intermediate | (S) D-glucaric acid, ammonium salt (1:1).
P-18-0378A | 5 | 9/27/2019 | CBI | (G) Industrial coatings additive | (G) Acrylic and Methacrylic acids and esters, polymer with alkenylimidazole, alkyl polyalkylene glycol, alkenylbenzene, alkylbenzeneperoxoic acid ester initiated, compds. with Dialkylaminoalkanol.
P-19-0058A | 4 | 10/15/2019 | Essential Industries, Inc | (S) Wood Coating | (S) Butanoic acid, 3-oxo-, 2-[(2-methyl-1-oxo-2-propen-1-yl)oxy]ethyl ester, polymer with butyl 2-propenoate, ethenylbenzene, methyl 2-methyl-2-propenoate and 2-methyl-2-popenoic acid, ammonium salt.
P-19-0064A | 4 | 10/10/2019 | The Sherwin Williams Company | (G) Polymeric film former for coatings | (G) 4,4′-methylenebis[2,6-dimethyl phenol] polymer with 2-(chloromethyl)oxirane, 1,4-benzyl diol, 2-methyl-2-propenoic acid, butyl 2-methyl 2-propenoate, ethyl 2-methyl 2-propenoate, and ethyl 2-propenoate, reaction products with 2-(dimethylamino) ethanol.
P-19-0086A | 5 | 10/1/2019 | CBI | (G) Monitor oil and gas well performance | (G) Halogenated sodium benzene akyl carboxylate.
P-19-0087A | 5 | 10/1/2019 | CBI | (G) Monitor oil-and-gas well performance | (G) Halogenated sodium benzene alkyl carboyxlate.
P-19-0088A | 3 | 10/3/2019 | CBI | (G) Feedstock for amine recovery | (S) Ethanamine, N-ethyl-, 2-hydroxy-1,2,3-propanetricarboxylate (1:?).
P-19-0089A | 7 | 10/1/2019 | CBI | (G) Well performance tracer | (G) Halogenated sodium benzene alkylcarboxylate.
P-19-0091A | 5 | 10/1/2019 | CBI | (G) Well performance tracer | (G) Halogenated benzene alkylcarboxylic acid.
P-19-0092A | 4 | 10/1/2019 | CBI | (G) Tracer of well performance | (G) Halogenated benzene alkylcarboxylic acid.
P-19-0103A | 4 | 10/14/2019 | CBI | (G) Well performance monitor | (G) Halogenated benzoic acid, ethyl ester.
P-19-0109A | 3 | 9/30/2019 | Arch Chemicals, Inc | (S) Chemical is used as a component of a hoof cleaning formulation to improve the wettability of the overall cleaning solution on the hoof | (S) Copper, [[2,2&apos;,2&apos;&apos;-(nitrilo-.kappa.N)tris[ethanol-.kappa.O]](2-)]-; (S) Copper, bis[2-(amino-.kappa.N)ethanolato-.kappa.O]-;.
P-19-0134 | 5 | 10/23/2019 | Conklin Co., Inc | (S) Binder for moisture cure coatings | (G) [5-isocyanato-1-(isocyanatomethyl)-1,3,3-trimethylcyclohexane], [Poly[oxy(methyl-1,2-ethanediyl)], .alpha.-hydro-.omega.-hydroxy-, polymer with 1,6-diisocyanatohexane], polymer with [Poly(oxy-1,4-butanediyl), .alpha.-hydro-.omega.-hydroxy-], [Cyclic amine—ketone adduct, reduced], and [1,3-Propanediol, 2-ethyl-2-(hydroxymethyl)-].
P-19-0137A | 4 | 10/4/2019 | CBI | (G) Component in lubricants | (G) Alkyl oligomeric reaction products.
P-19-0141A | 4 | 9/27/2019 | CBI | (S) For use in metal treatment coatings for lubrication and corrosion protection | (S) Phosphoric Acid, manganese(2+) salt (2:3); (S) Phosphoric acid, manganese(2+) salt (4:5);.
P-19-0141A | 5 | 10/3/2019 | CBI | (S) For use in metal treatment coatings for lubrication and corrosion protection | (M) (S) Phosphoric Acid, manganese(2+) salt (2:3); (S) Phosphoric acid, manganese(2+) salt (4:5);.
P-19-0147A | 4 | 9/30/2019 | Croda, Inc | (G) Cleaning additive | (G) alkoxylated butyl alkyl ester.
P-19-0158A | 4 | 10/24/2019 | Ashland, Inc | (G) Adhesive | (G) Alkenoic acid polymer with 2-ethyl-2-(hdroxymethyl)-1,3-alkyldiol, 1,1′-methylenebis(4-isocyantocarbomonocycle) and 3-methyl-1,5-aklydiol.
P-19-0163A | 3 | 9/27/2019 | CBI | (G) Well performance tracer | (G) halogenated sodium benzoate.
P-19-0165A | 2 | 10/16/2019 | Arboris, LLC | (G) Plasticizer in rubber and coating in minerals | (G) Tall oil pitch, fraction, sterol-low.
P-19-0167A | 2 | 10/22/2019 | Santolubes Manufacturing, LLC | (S) Synthetic engine, gear and lubricating oils and greases | (S) Poly(oxy-1,4-butanediyl), alpha-hydro-omega-hydroxy-, hexanoate.
P-19-0168A | 3 | 10/1/2019 | CBI | (G) Well performance tracer | (G) Halogenated alkylbenzoic acid.
P-19-0169A | 3 | 10/1/2019 | CBI | (G) Well performance monitor | (G) Halogenated alkylbenzoic acid.
P-19-0171 | 2 | 9/27/2019 | CBI | (G) Well performance monitor | (G) Halogenated benzoic acid.
P-19-0171A | 3 | 10/4/2019 | CBI | (G) Well performance monitor | (G) Halogenated benzoic acid.
P-19-0171A | 4 | 10/29/2019 | CBI | (G) Well performance monitor | (G) Halogenated benzoic acid.
P-19-0172 | 2 | 9/27/2019 | CBI | (G) Well performance monitor | (G) Halogenated benzoic acid.
P-19-0172A | 3 | 10/4/2019 | CBI | (G) Well performance monitor | (G) Halogenated benzoic acid.
P-19-0172A | 4 | 10/29/2019 | CBI | (G) Well performance monitor | (G) Halogenated benzoic acid.
P-19-0173 | 2 | 9/27/2019 | CBI | (G) Well performance monitor | (G) Halogenated benzoic acid.
P-19-0173A | 3 | 10/4/2019 | CBI | (G) Well performance monitor | (G) Halogenated benzoic acid.
P-19-0173A | 4 | 10/29/2019 | CBI | (G) Well performance monitor | (G) Halogenated benzoic acid.
P-19-0175A | 2 | 10/1/2019 | CBI | (G) Well performance monitor | (G) Halogenated alkylbenzoic acid.
P-19-0175A | 3 | 10/2/2019 | CBI | (G) Well performance monitor | (G) Halogenated alkylbenzoic acid.
P-19-0175A | 4 | 10/29/2019 | CBI | (G) Well performance monitor | (G) Halogenated alkylbenzoic acid.
P-19-0176A | 2 | 10/1/2019 | CBI | (G) Well performance monitor | (G) Halogenated alkylbenzoic acid.
P-19-0176A | 3 | 10/2/2019 | CBI | (G) Well performance monitor | (G) Halogenated alkylbenzoic acid.
P-19-0176A | 4 | 10/29/2019 | CBI | (G) Well performance monitor | (G) Halogenated alkylbenzoic acid.
P-19-0177A | 2 | 10/1/2019 | CBI | (G) Well performance monitor | (G) Halogenated alkylbenzoic acid.
P-19-0177A | 3 | 10/2/2019 | CBI | (G) Well performance monitor | (G) Halogenated alkylbenzoic acid.
P-19-0177A | 4 | 10/29/2019 | CBI | (G) Well performance monitor | (G) Halogenated alkylbenzoic acid.
P-19-0178A | 2 | 10/1/2019 | CBI | (G) Well performance monitor | (G) Halogenated alkylbenzoic acid.
P-19-0178A | 3 | 10/2/2019 | CBI | (G) Well performance monitor | (G) Halogenated alkylbenzoic acid.
P-19-0178A | 4 | 10/29/2019 | CBI | (G) Well performance monitor | (G) Halogenated alkylbenzoic acid.
P-19-0179A | 2 | 10/1/2019 | CBI | (G) Well performance monitor | (G) Halogenated alkylbenzoic acid.
P-19-0179A | 3 | 10/2/2019 | CBI | (G) Well performance monitor | (G) Halogenated alkylbenzoic acid.
P-19-0179A | 4 | 10/29/2019 | CBI | (G) Well performance monitor | (G) Halogenated alkylbenzoic acid.
P-19-0180 | 2 | 10/1/2019 | CBI | (G) Well performance monitor | (G) Halogenated sodium alkylbenzoate.
P-19-0180A | 3 | 10/4/2019 | CBI | (G) Well performance monitor | (G) Halogenated sodium alkylbenzoate.
P-19-0180A | 4 | 10/22/2019 | CBI | (G) Well performance monitor | (G) halogenated alkyl sodium benzoate.
P-19-0181 | 2 | 10/1/2019 | CBI | (G) Well performance monitor | (G) Halogenated sodium alkylbenzoate.
P-19-0181A | 3 | 10/4/2019 | CBI | (G) Well performance monitor | (G) Halogenated sodium alkylbenzoate.
P-19-0181A | 4 | 10/22/2019 | CBI | (G) Well performance monitor | (G) halogenated alkyl sodium benzoate.
P-19-0182 | 2 | 10/1/2019 | CBI | (G) Well performance monitor | (G) Halogenated sodium alkylbenzoate.
P-19-0182A | 3 | 10/4/2019 | CBI | (G) Well performance monitor | (G) Halogenated sodium alkylbenzoate.
P-19-0182A | 4 | 10/22/2019 | CBI | (G) Well performance monitor | (G) halogenated alkyl sodium benzoate.
P-19-0183 | 1 | 9/27/2019 | CBI | (G) Well performance monitor | (G) Halogenated sodium alkylbenzoate.
P-19-0183A | 2 | 10/4/2019 | CBI | (G) Well performance monitor | (G) Halogenated sodium alkylbenzoate.
P-19-0184 | 1 | 9/27/2019 | CBI | (G) Well performance monitor | (G) Halogenated sodium alkylbenzoate.
P-19-0184A | 2 | 10/4/2019 | CBI | (G) Well performance monitor | (G) Halogenated sodium alkylbenzoate.
P-19-0185 | 1 | 9/27/2019 | CBI | (G) Well performance monitor | (G) Halogenated sodium alkylbenzoate.
P-19-0185A | 2 | 10/4/2019 | CBI | (G) Well performance monitor | (G) Halogenated sodium alkylbenzoate.
P-19-0186 | 1 | 9/27/2019 | CBI | (G) Well performance monitor | (G) Halogenated sodium alkylbenzoate.
P-19-0186A | 2 | 10/4/2019 | CBI | (G) Well performance monitor | (G) Halogenated sodium alkylbenzoate.
P-19-0187 | 1 | 9/27/2019 | CBI | (G) Well performance monitor | (G) Halogenated sodium alkylbenzoate.
P-19-0187A | 2 | 10/4/2019 | CBI | (G) Well performance monitor | (G) Halogenated sodium alkylbenzoate.
P-19-0188 | 1 | 9/30/2019 | Archroma U.S., Inc | (S) Wetting agent and lubricant during textile processing | (G) Octadecanamide, N,N-dialkyl, salts.
P-19-0189 | 1 | 9/30/2019 | CBI | (S) Reactive polymer for use in adhesives and sealants | (G) Fatty acids, polymers with alkanediol and 1,1′-methylenebis[4-isocyanatobenzene].
P-20-0001 | 1 | 10/2/2019 | Santolubes Manufacturing, LLC | (S) Synthetic engine, gear & lubricating oils & greases | (S) Poly(oxy-1,4-butanediyl), alpha-hydro-omega-hydroxy-, nonanoate.
P-20-0002 | 1 | 10/2/2019 | Santolubes Manufacturing, LLC | (S) Synthetic engine, gear & lubricating oils & greases | (S) Fatty Acids, C18-unsatd., dimers, hydrogenated, polymers with alpha-hydro-omega-hydroxypoly(oxy-1,4-butanediyl) and nonanoic acid.
P-20-0004 | 1 | 10/2/2019 | Santolubes Manufacturing, LLC | (S) Synthetic engine, gear & lubricating oils & greases | (S) Fatty Acids, C18-unsatd., dimers, hydrogenated, polymers with hexanoic acid and alpha-hydro-w-hydroxypoly(oxy-1,4-butanediyl).
P-20-0005 | 2 | 10/21/2019 | RMC Advanced Technologies Inc | (G) Additive for plastics and resins | (G) modified graphene.
P-20-0006 | 1 | 10/7/2019 | CBI | (G) Well performance monitor | (G) Halogenated sodium alkylbenzoate.
P-20-0007 | 1 | 10/7/2019 | CBI | (G) Well performance monitor | (G) Halogenated sodium alkylbenzoate.
P-20-0008 | 1 | 10/8/2019 | Archroma U.S., Inc | (S) Dye for use with paper, paper products, and nonwoven products produced from paper | (G) 7-Heteropolycyclicsulfonic acid, 2-[4-[2-[1-[[(2-methoxy-5-methyl-4-sulfophenyl)amino]carbonyl]-2-oxopropyl]diazenyl]phenyl]-6-methyl-, compd. with (alkylamino)alkanol and (hydroxyalkyl)amine.
P-20-0009 | 2 | 10/21/2019 | Resinate Materials Group, Inc | (S) Intermediate for use in the manufacture of polymers | (G) Waste plastics, poly(ethylene terephthalate), depolymd. with polyol, polymers with alkanedioic acid and alkanoic acid.
P-20-0010 | 2 | 10/18/2019 | CBI | (G) Polymerization auxiliary | (G) Carboxylic acid, metal salt, reaction products with metal salt.
P-20-0011 | 3 | 10/28/2019 | Chitec Technology Co., Ltd | (G) Light stabilizer | (G) Tetraoxaspiro[5.5]alkyl-3,9-diylbis(alkyl-2,1-diyl) bis(2-cyano-3-(3,4-dimethoxyphenyl)acrylate).
P-20-0012 | 4 | 10/31/2019 | CBI | (G) Ink Additive | (G) Polyol, polymer with alkyl diisocyanate, alkyl substituted heterocycle blocked.
P-20-0013 | 1 | 10/17/2019 | Arkema, Inc | (G) UV curable inks | (S) 2-Propenoic acid, 2-methyl-, (2-oxo-1,3-dioxolan-4-yl)methyl ester.
P-20-0014 | 1 | 10/21/2019 | McTron Technologies | (G) Water resistant resin additive and Heat resistant binder additive | (G) Sugars, polymer with alkanetriamine.
SN-19-0006 | 1 | 9/30/2019 | CBI | (G) Component for 3D Printing formulations | (S) 2-Propen-1-one, 1-(4-morpholinyl)-.
SN-19-0006A | 2 | 10/9/2019 | CBI | (G) Component for 3D Printing formulations | (S) 2-Propen-1-one, 1-(4-morpholinyl)-/.
* The term `Approved' indicates that a submission has passed a quick initial screen ensuring all required information and documents have been provided with the submission prior to the start of the 90 day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved * From 10/01/2019 to 10/31/2019
Case No. | Received date | Commencement date | If amendment, type of amendment | Chemical substance
J-18-0012 | 10/29/2019 | 4/9/2019 | N | (G) Genetically modified yeast.
J-18-0045 | 10/25/2019 | 10/16/2019 | N | (G) Biofuel producing saccharomyces cerevisiae modified, genetically stable.
J-19-0024 | 10/25/2019 | 9/20/2019 | N | (G) Biofuel producing saccharomyces cerevisiae modified, genetically stable.
P-13-0238 | 10/3/2019 | 9/23/2019 | N | (G) Benzoic acid, heteroatom substituted, compd. with (alkylaminoalkoxyalkyl)alkylaminoethanol.
P-14-0596 | 10/24/2019 | 9/20/2019 | N | (G) Sorbitan, ester, poly(oxy-1,2-ethanediyl) derivs., reaction products with isocyanate homopolymer, imidazole-amine, polyethylene glycol ether and arylated polyethylene glycol ether.
P-16-0132 | 10/28/2019 | 10/24/2019 | N | (S) Oxirane, 2-methyl-, polymer with oxirane, mono-c16-18 ethers, phosphates.
P-18-0109 | 9/27/2019 | 9/25/2019 | N | (G) 2-alkenoic acid, 2-alkyl-, alkyl ester, polymer with 2-(dialkylamino)alkyl 2-alkyl-2alkenoate, alkyl 2-alkyl-2-alkenoate and a-(2-alkyl-1-oxo-2-alken-1-yl)-o-alkoxypoly(oxy-1,2alkanediyl), [(1-alkoxy-2-alkyl-1-alken-1-yl)oxy]trialkylsilane-initiated.
P-18-0222 | 10/21/2019 | 10/15/2019 | N | (S) Silane, ethenyltrimethoxy-, polymer with ethene and 1-propene.
P-18-0272 | 10/21/2019 | 10/9/2019 | N | (G) Metal, alkylcarboxylate oxo complexes.
P-19-0005 | 10/23/2019 | 9/27/2019 | N | (G) Phenol-formaldehyde epoxy, polymer with an alkyl polyether polysulfide.
P-19-0024 | 10/7/2019 | 10/1/2019 | N | (S) Silsesquioxanes, 3-(dimethyloctadecylammonio)propyl me pr, polymers with silicic acid (h4si04) tetra-et ester, (2-hydroxyethoxy)- and methoxyterminated, chlorides.
P-19-0029 | 10/3/2019 | 9/19/2019 | N | (S) Phosphonium, tributylethyl-, diethyl phosphate (1:1).
P-19-0057 | 10/10/2019 | 9/17/2019 | N | (S) 2-propanamine, n-[2-[2-(2-methoxyethoxy)ethoxy]ethyl]-2-methyl-.
P-19-0132 | 10/17/2019 | 10/17/2019 | N | (G) Fatty acid, polymer with alkanedioic acid dialkyl ester, alkanoic acid, oxo alkyl ester, substituted carbomonocycle, alkyl substituted alkanediol, and alkylol substituted alkane.
* The term `Approved' indicates that a submission has passed a quick initial screen ensuring all required information and documents have been provided with the submission.

In Table III of this unit, EPA provides the following information (to the extent such information is not subject to a CBI claim) on the test information that has been received during this time period: The EPA case number assigned to the test information; the date the test information was received by EPA, the type of test information submitted, and chemical substance identity.

Table III—Test Information Received From 10/01/2019 to 10/31/2019
Case No. | Received date | Type of test information | Chemical substance
P-00-0281 | 10/16/2019 | Test Protocols, CMC Testing Protocol, CMC Final Report, Information on test substance, Water Solubility Report, Certificate of Analysis, Neutralized Aristonic EAG, Manufacturing Summary, Water Solubility, SDS, Original Solubility Report, Clarification Letter, Daphnia sp., Acute Immobilization Test (OECD Test Guideline 202), Fish, Acute Toxicity Test (OECD Test Guideline 202), Surface Tension of Aqueous Solutions (OECD Test Guideline 115), Analytical Method Validation for Algae, Certificate of Analysis, Neutralized Aristonic Acid EAG, SDS, signed case submission form, Solubility Trial Report, Clarification Letter | (G) Alkylaryl sulfonic acid, sodium salts.
P-16-0289 | 10/21/2019 | Particle size and concentration | (G) Benzene dicarboxylic acid, polymer with alkane dioic acid and aliphatic diamine.
P-16-0462 | 10/21/2019 | Metal Analysis Report | (G) Ash (residues), reaction products with tetraethoxydioxa-polyheteroatom-disilaalkane.
P-17-0329 | 10/9/2019 | Permeation Test Final Report | (G) Substituted haloaromatic trihaloalkyl-aromatic alkanone.
P-17-0343 | 10/18/2019 | Classification for Reproductive Toxicity, Oral (Gavage) Combined Repeat Dose Toxicity Study with Reproduction/Developmental Toxicity Screening Test in the Rat (OECD Test Guideline 422) with Comet Assay | (G) Heteropolycyclic-alkanol, carbomonocycle-alkanesulfonate.
P-18-0150 | 10/23/2019 | Developmental Toxicity Study in Rats After Inhalation, Exerpt from Chemical Safety Report (OECD Test Guideline 414), Approaches to defining the relationship of maternal and developmental toxicity, Commentary on the role of maternal toxicity on developmental toxicity | (G) Tertiary amine, compounds with amino sulfonic acid blocked aliphatic isocyanate homopolymer.
P-18-0177 | 10/17/2019 | Solubility in Alga Growth Medium (OECD Test Guideline 201) | (S) Waxes and waxy substances, rice bran, oxidized.
P-19-0041 | 10/16/2019 | Acute Toxicity to Fish Mitigated by Humic Acid (OECD Test Guideline 203), Algal Growth Inhibition Test (OECD Test Guideline 201), Acute Oral Toxicity Study in the Rat—Fixed Dose Method, Determination of Physical State and Partition Coefficient (n-Octanol/Water) (OECD Test Guideline 107) | (G) Alkyl diester, polymer with (dialkylamino alkyl) amine and bis(halogenated alkyl) ether

If you are interested in information that is not included in these tables, you may contact EPA's technical information contact or general information contact as described under FOR FURTHER INFORMATION CONTACT to access additional non-CBI information that may be available.

Authority: 15 U.S.C. 2601 et seq.

Dated: January 16, 2020.
Pamela Myrick,
Director, Information Management Division, Office of Pollution Prevention and Toxics.

[FR Doc. 2020-03352 Filed 2-19-20; 8:45 am]

BILLING CODE 6560-50-P